DEPARTMENT OF ENERGY

Federal Energy Regulatory Commission

[Docket Nos. RP96-389-085]

Columbia Gulf Transmission Company; Notice of Compliance Filing

May 2, 2003.

Take notice that on April 28, 2003, Columbia Gulf Transmission Company (Columbia Gulf) tendered for filing as part of its FERC Gas Tariff, Second Revised Volume No. 1, Ninth Revised Sheet No. 316, to become effective April 17, 2003.

Columbia Gulf states that on March 26, 2003, it made a filing with the Commission seeking approval of a Rate Schedule FTS-1 negotiated rate agreement with CoEnergy Trading Company (CoEnergy) in Docket No. RP96-389-078. Columbia Gulf further states that on March 28, 2003, it made three similar filings with the Commission seeking approval of Rate Schedule FTS-1 negotiated rate agreements with Tenaska Marketing Ventures (Tenaska); EnergyUSA-TPC (EnergyUSA); and FPL Energy Power Marketing, Inc. (FPL) in Docket Nos. RP96-389-079, RP96-389-080, and RP96-389-081 respectively. Columbia Gulf adds that on April 1, 2003, it made a similar filing with the Commission seeking approval of a Rate Schedule PAL negotiated rate agreement with Petrocom Energy Group, Ltd. (Petrocom) in Docket No. RP96-389-082.

Columbia Gulf states that the Commission issued the following orders related to the filing mentioned above: on April 17, 2003, an order approving the CoEnergy Service Agreement effective April 1, 2003; on April 23, 2003, three separate orders approving the Tenaska, EnergyUSA, and FPL service agreements effective April 1, 2003; on April 22, 2003, an order approving the Petrocom service agreement effective May 1, 2003.

Columbia asserts that all five of the orders directed Columbia Gulf to file a tariff sheet identifying the agreements as non-conforming agreements in compliance with section 154.112(b) of the Commission's regulations. Columbia Gulf states that the instant filing is being made to comply with section 154.112(b) and to reference the non-conforming service agreements in its Volume No. 1 tariff.

Columbia Gulf further states that copies of its filing have been mailed to each of the parties listed on the service list in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 12, 2003.

Magalie R. Salas,
Secretary.

[FR Doc. 03-11517 Filed 5-7-03; 8:45 am]

BILLING CODE 6717-01-P